SOCIAL SECURITY ADMINISTRATION

[Docket No: SSA-2023-0050]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections, and one extension collection for OMB-approval.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974.

(SSA), Social Security Administration, OLCA, Attn: Reports Clearance Director, Mail Stop 3253 Altmeyer, 6401 Security Blvd., Baltimore, MD 21235, Fax: 833-410-1631, Email address: OR.Reports.Clearance@ssa.gov.

Or you may submit your comments online through https://www.reginfo.gov/public/do/PRAmain by clicking on Currently under Review—Open for Public Comments and choosing to click on one of SSA's published items. Please reference Docket ID Number [SSA-2023-0050] in your submitted response.

I. The information collection below is pending at SSA. SSA will submit it to OMB within 60 days from the date of this notice. To be sure we consider your comments, we must receive them no later than February 27, 2024. Individuals can obtain copies of the collection instruments by writing to the above email address.

Employee Work Activity Questionnaire—20 CFR 404.1574(a)(1)-(3)—0960-0483. Social Security Disability Insurance (SSDI) beneficiaries and Supplemental Security Income (SSI) recipients qualify for payments when a verified physical or mental impairment prevents them from working. If disability claimants attempt to return to work after receiving payments, but are unable to continue working, they submit Form SSA-3033, Employee Work Activity Questionnaire, so SSA can evaluate their work attempt. SSA also uses this form to evaluate unsuccessful subsidy work and determine applicants' continuing eligibility for disability payments. The respondents are employers of SSDI beneficiaries and SSI recipients who unsuccessfully attempted to return to work.

Type of Request: Extension of an OMB-approved information collection.

Modality of completion | Number of respondents | Frequency of response | Average burden per response (minutes) | Estimated total annual burden (hours) | Average theoretical hourly cost amount (dollars) * | Average wait time for teleservice centers (minutes) ** | Total annual opportunity cost (dollars) ***
SSA-3033 Phone | 5,000 | 1 | 15 | 1,250 | $59.07 | 19 | *** $167,345
SSA-3033 Returned via mail | 10,000 | 1 | 15 | 2,500 | 59.07 |  | *** 147,675
Totals | 15,000 |  |  | 3,750 |  |  | 315,020
* We based this figure on average general and operations manager's hourly salary, as reported by Bureau of Labor Statistics data (https://www.bls.gov/oes/current/oes111021.htm).
** We based this figure on the average FY 2023 wait times for field offices, based on SSA's current management information data.
*** This figure does not represent actual costs that SSA is imposing on recipients of Social Security payments to complete this application; rather, these are theoretical opportunity costs for the additional time respondents will spend to complete the application. There is no actual charge to respondents to complete the application.

II. SSA submitted the information collections below to OMB for clearance. Your comments regarding these information collections would be most useful if OMB and SSA receive them 30 days from the date of this publication. To be sure we consider your comments, we must receive them no later than January 29, 2024. Individuals can obtain copies of these OMB clearance packages by writing to the OR.Reports.Clearance@ssa.gov.

1. Medicaid Use Report—20 CFR 416.268—0960-0267. Section 1619(b) of the Social Security Act (Act) and 20 CFR 416.268 of the Code of Federal Regulations (Code) require SSA to determine eligibility for: (1) special SSI payments, and (2) special SSI eligibility status for a person who works despite a disabling condition. Section 20 CFR 416.268 of the Code also provides that to qualify for special SSI eligibility status, an individual must establish that termination of eligibility for benefits under title XIX of the Act would seriously inhibit their ability to continue employment. SSA uses the collected information to determine if an individual is entitled to special title XVI SSI payments and, consequently, to Medicaid or Medi-Cal.

In most cases, if an SSI beneficiary is blind or disabled, regardless of age, and they have Medicaid before beginning to work again, they can retain their Medicaid benefits while continuing to work as long as their disabling condition still exists. During a personal or telephone Redetermination interview with the SSI recipient, an SSA employee asks the following questions:

• Have you used any medical care or services in the past 12 months that were paid for by Medicaid (or Medi-Cal, etc.)?

• Do you expect to receive any medical care or services in the next 12 months that will be paid for by Medicaid (or Medi-Cal, etc.)?

• Without Medicaid (Medi-Cal, etc.), would you be unable to pay your medical bills if you become ill or injured in the next 12 months?

Generally, a response of “yes” to one of those three questions will lead to SSA determining that an SSI recipient whose payments have stopped based on earnings, is entitled to special SSI payments and, consequently, to Medicaid benefits under section 1619 (b) of the Act. The respondents are SSI recipients for whom SSA has stopped payments based on earnings.

Type of Request: Extension of an OMB-approved information collection.

Modality of completion | Number of respondents | Frequency of response | Average burden per response (minutes) | Estimated total annual burden (hours) | Average theoretical hourly cost amount (dollars) * | Average wait time in field offices and teleservice centers (minutes) ** | Total annual opportunity cost (dollars) ***
20 CFR 416.268 SSI Claims System | 99,000 | 1 | 3 | 4,950 | * $12.81 | ** 21 | *** $507,276
* We based this figure on average SSI payments based on SSA's current FY 2023 data (https://www.ssa.gov/legislation/2023factsheet.pdf).
** We based this figure on the average FY 2023 wait times for field offices, based on SSA's current management information data.
*** This figure does not represent actual costs that SSA is imposing on recipients of Social Security payments to complete this application; rather, these are theoretical opportunity costs for the additional time respondents will spend to complete the application. There is no actual charge to respondents to complete the application.

2. Appeal of Determination for Extra Help with Medicare Prescription Drug Costs—0960-0695. Public Law 108-173, also known as the Medicare Prescription Drug, Improvement and Modernization Act of 2003 (MMA), amended title XVIII of the Act to establish a subsidy program to help certain individuals with limited income and resources pay for Medicare Part D prescription drug coverage. SSA also commonly refers to this subsidy program as Extra Help.

Individuals seeking Extra Help may apply via the SSA-1020 paper form or i1020 online application (OMB No. 0960-0696). If SSA determines that the claimant is not eligible for Extra Help, SSA will mail a notice to the claimant indicating that SSA denied the claim. Extra Help denial notices include appeal rights and explain how to request an appeal. Individuals learn about the appeal process for Extra Help via determination notices, 800# representatives, as well as SSA and CMS websites. Individuals voluntarily initiate the Extra Help appeal process by printing the form from SSA's online website and sending the completed form to SSA, contacting SSA's 800 Number to request an appeal, or going into the field office to request the appeal. If the individual chooses to call the 800# or go into the field office, an SSA technician enters the individual's request into the MAPS system. The system then electronically sends the request to the Subsidy Determination Unit, who schedules an appointment for the appeal and sends an appointment notice to the individual.

Individuals who appeal SSA's decision regarding eligibility or continuing eligibility for Medicare Part D Extra Help must complete Form SSA-1021. The respondent may mail the completed form to either the local field office or to the Wilkes-Barre Direct Operations Center. The respondent may also complete the form with assistance from an SSA technician via an in-person interview at the Field Office or over the telephone. SSA technicians enter all claims into Medicare Application Processing System (MAPS), which automatically adjudicates claims based on the data the technicians input. Respondents are Medicare beneficiaries, or proper applicants acting on behalf of a Medicare beneficiary, who do not agree with the outcome of an SSA Extra Help eligibility determination and want to file an appeal.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-1021—(Paper version) | 1,859 | 1 | 10 | 310 | * $29.76 |  | *** $9,226
SSA-1021—(Internet version: MAPS) | 5,291 | 1 | 10 | 882 | * $29.76 | ** 24 | *** $89,220
Totals | 7,150 |  |  | 1,192 |  |  | *** $98,446
* We based this figure on average U.S. worker's hourly wages; State and local government worker's salaries; and attorney representative payee wages as reported by Bureau of Labor Statistics data (https://www.bls.gov/oes/current/oes_stru.htm).
** We based this figure on the average FY 2023 wait times for field offices, based on SSA's current management information data.
*** This figure does not represent actual costs that SSA is imposing on recipients of Social Security payments to complete this application; rather, these are theoretical opportunity costs for the additional time respondents will spend to complete the application. There is no actual charge to respondents to complete the application.

Dated: December 26, 2023.
Naomi Sipple,
Reports Clearance Officer, Social Security Administration.

[FR Doc. 2023-28774 Filed 12-28-23; 8:45 am]

BILLING CODE 4191-02-P